NATIONAL AERONAUTICS AND SPACE ADMINISTRATION

[Notice 02-063]

U.S. Centennial of Flight Commission; Meeting

AGENCY: National Aeronautics and Space Administration.

ACTION: Notice of meeting.

SUMMARY: In accordance with the Federal Advisory Committee Act, Public Law 92-463, as amended, the National Aeronautics and Space Administration announces a meeting of the U.S. Centennial of Flight Commission.

DATES: Wednesday, June 19, 2002, 1 p.m. to 5 p.m.

ADDRESSES: Federal Aviation Administration, 3rd Floor Auditorium, 800 Independence Avenue, SW., Washington, DC. Attendees must check in at the Security Desk to be cleared to the 3rd floor auditorium.

FOR FURTHER INFORMATION CONTACT: Ms. Beverly Farmarco, Code I-2, National Aeronautics and Space Administration, Washington, DC 20546, 202/358-1903.

SUPPLEMENTARY INFORMATION: The meeting will be open to the public up to the seating capacity of the room. The agenda for the meeting is as follows:

—Opening Comments

—Centennial Partner Applications

—Centennial of Flight Kick-Off Plans

—Centennial Updates

—First Flight Centennial Federal Advisory Board

—Carter Ryley Thomas Update

—Closing Comments

—Adjourn

It is imperative that the meeting be held on this date to accommodate the scheduling priorities of the key participants. Visitors will be requested to sign a visitor's register.

Dated: May 16, 2002.
Sylvia K. Kraemer,
Advisory Committee Management Officer, National Aeronautics and Space Administration.

[FR Doc. 02-12867 Filed 5-21-02; 8:45 am]

BILLING CODE 7510-01-U